DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: American Fisheries Act Reports in the Bering Sea and Aleutian Islands Management Area.

OMB Control Number: 0648-0401.

Form Number(s): None.

Type of Request: Regular submission (extension of a currently approved information collection).

Number of Respondents: 11.

Average Hours per Response: 12 hours for AFA Annual Report; 30 minutes for Non-member vessel contract fishing application; 5 minutes for Inshore catcher vessel cooperative pollock catch report; 5 minutes for Agent for service of process; 40 hours for Salmon Bycatch Reduction Inter-Cooperative Agreement (ICA).

Burden Hours: 101.

Needs and Uses: This is an extension of a currently approved information collection. The American Fisheries Act (AFA) was signed into law in October of 1998. The AFA established an allocation program for the pollock fishery of the Bering Sea and Aleutian Islands Management Area (BSAI). The AFA established a limited access program for the inshore sector of the BSAI pollock fishery that is based on the formation of fishery cooperatives around each inshore pollock processor. Implementing regulations are found at 50 CFR part 679, Subpart F.

The original purposes of the AFA were to tighten United States ownership standards that had been exploited under the Anti-reflagging Act, to provide Alaska's BSAI pollock fleet the opportunity to conduct their fishery in a more rational manner, and to protect non-AFA participants in other fisheries. In addition, a voluntary civil agreement among pollock cooperatives, Western Alaska Community Development Quota (CDQ) groups, and western Alaska subsistence salmon user groups is intended to coordinate the pollock fishery in a manner that reduces incidental catch rates of salmon. Reduced bycatch, higher utilization rates, increased economic returns, and improved safety are among the direct benefits of the AFA. The flexibility provided by cooperatives and by individual vessel allocations of pollock and other species has allowed the BSAI pollock fleet to spread their fishing effort in time and space. The cooperative management structure has shifted more of the monitoring and enforcement burden to the cooperatives and their members, allowing NMFS to manage the fishery more precisely. The AFA cooperative annual reports are required to provide information about how the cooperative allocated pollock, other groundfish species, and prohibited species among the vessels in the cooperative; the catch of these species by area for each vessel in the cooperative; information about how the cooperative monitored fishing by its members; and a description of any actions taken by the cooperative to penalize vessels that exceeded the catch and bycatch allocations made to the vessel by the cooperative.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 26, 2010.
Gwellnar Banks,
Management Analyst, Office of the Chief Information Officer.

[FR Doc. 2010-18644 Filed 7-28-10; 8:45 am]

BILLING CODE 3510-22-P